DEPARTMENT OF ENERGY

Federal Energy Regulatory Commission

Combined Notice of Filings #1

Take notice that the Commission received the following electric rate filings:

Docket Numbers: ER10-2437-006

Applicants: Arizona Public Service Company.

Description: Notice of Non-Material Change in Status of Arizona Public Service Company.

Filed Date: 5/26/16.

Accession Number: 20160526-5304.

Comments Due: 5 p.m. ET 6/16/16.

Docket Numbers: ER14-695-005.

Applicants: Entergy Services, Inc.

Description: Compliance filing: LBA Compliance ER14-695 5-26-2016 to be effective 12/19/2013.

Filed Date: 5/26/16.

Accession Number: 20160526-5276.

Comments Due: 5 p.m. ET 6/16/16.

Docket Numbers: ER14-696-005.

Applicants: Entergy Services, Inc.

Description: Compliance filing: LBA Compliance ER14-696 5-26-2016 to be effective 12/19/2013.

Filed Date: 5/26/16.

Accession Number: 20160526-5277.

Comments Due: 5 p.m. ET 6/16/16.

Docket Numbers: ER14-697-006.

Applicants: Entergy Services, Inc.

Description: Compliance filing: LBA Compliance ER14-697 5-26-2016 to be effective 12/19/2013.

Filed Date: 5/26/16.

Accession Number: 20160526-5278.

Comments Due: 5 p.m. ET 6/16/16.

Docket Numbers: ER14-699-006.

Applicants: Entergy Services, Inc.

Description: Compliance filing: LBA Compliance ER14-699 5-26-2016 to be effective 12/19/2013.

Filed Date: 5/26/16.

Accession Number: 20160526-5279.

Comments Due: 5 p.m. ET 6/16/16.

Docket Numbers: ER14-700-007.

Applicants: Entergy Services, Inc.

Description: Compliance filing: LBA Compliance ER14-700 5-26-2016 to be effective 12/19/2013.

Filed Date: 5/26/16.

Accession Number: 20160526-5281.

Comments Due: 5 p.m. ET 6/16/16.

Docket Numbers: ER14-701-005.

Applicants: Entergy Services, Inc.

Description: Compliance filing: LBA Compliance ER14-701 5-26-2016 to be effective 12/19/2013.

Filed Date: 5/26/16.

Accession Number: 20160526-5283.

Comments Due: 5 p.m. ET 6/16/16.

Docket Numbers: ER14-702-005.

Applicants: Entergy Arkansas, Inc.

Description: Compliance filing: LBA Compliance ER14-702 5-26-2016 to be effective 12/19/2013.

Filed Date: 5/26/16.

Accession Number: 20160526-5275.

Comments Due: 5 p.m. ET 6/16/16.

Docket Numbers: ER14-703-005.

Applicants: Entergy Services, Inc.

Description: Compliance filing: LBA Compliance ER14-703 5-26-2016 to be effective 12/19/2013.

Filed Date: 5/26/16.

Accession Number: 20160526-5282.

Comments Due: 5 p.m. ET 6/16/16.

Docket Numbers: ER14-704-005.

Applicants: Entergy Services, Inc.

Description: Compliance filing: LBA Compliance ER14-704 5-26-2016 to be effective 12/19/2013.

Filed Date: 5/26/16.

Accession Number: 20160526-5284.

Comments Due: 5 p.m. ET 6/16/16.

Docket Numbers: ER16-425-001.

Applicants: New York Independent System Operator, Inc.

Description: Response to Data Request of New York Independent System Operator, Inc.

Filed Date: 5/26/16.

Accession Number: 20160526-5299.

Comments Due: 5 p.m. ET 6/6/16.

Docket Numbers: ER16-1796-000.

Applicants: New York State Electric & Gas Corporation.

Description: § 205(d) Rate Filing: Executed Operations and Maintenance Agreement with New York Transco LLC to be effective 5/27/2016.

Filed Date: 5/26/16.

Accession Number: 20160526-5261.

Comments Due: 5 p.m. ET 6/16/16.

Docket Numbers: ER16-1797-000.

Applicants: Midcontinent Independent System Operator, Inc.

Description: § 205(d) Rate Filing: 2016-05-26_CMP Baseline Filing—MISO-SPP JOA to be effective 7/25/2016.

Filed Date: 5/26/16.

Accession Number: 20160526-5268.

Comments Due: 5 p.m. ET 6/16/16.

Docket Numbers: ER16-1798-000.

Applicants: Midcontinent Independent System Operator, Inc.

Description: § 205(d) Rate Filing: 2016-05-26_CMP Baseline Filing—MISO-PJM JOA to be effective 7/25/2016.

Filed Date: 5/26/16.

Accession Number: 20160526-5270.

Comments Due: 5 p.m. ET 6/16/16.

Docket Numbers: ER16-1799-000.

Applicants: Southwest Power Pool, Inc.

Description: § 205(d) Rate Filing: SPP-MISO JOA Congestion Management Process Revisions to be effective 7/25/2016.

Filed Date: 5/26/16.

Accession Number: 20160526-5273.

Comments Due: 5 p.m. ET 6/16/16.

Docket Numbers: ER16-1800-000.

Applicants: Midcontinent Independent System Operator, Inc.

Description: § 205(d) Rate Filing: 2016-05-27_SA 2900 Cedar Falls-Western Minnesota Municipal 1st Rev. GIA (J329) to be effective 5/28/2016 .

Filed Date: 5/27/16.

Accession Number: 20160527-5059.

Comments Due: 5 p.m. ET 6/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2016.
Nathaniel J. Davis, Sr.,
Deputy Secretary.

[FR Doc. 2016-13128 Filed 6-2-16; 8:45 am]

BILLING CODE 6717-01-P